DEPARTMENT OF ENERGY

Federal Energy Regulatory Commission

[Docket No. EC02-35-000, et al.]

Engage Energy America LLC, et al.; Electric Rate and Corporate Regulation Filings

December 20, 2001.

Take notice that the following filings have been made with the Commission. Any comments should be submitted in accordance with Standard Paragraph E at the end of this notice.

1. Engage Energy America LLC, and Frederickson Power L.P. and Duke Energy Corporation

[Docket No. EC02-35-000]

Take notice that on December 14, 2001, Engage Energy America LLC (Engage America) and Frederickson Power, L.P. (Frederickson), and Duke Energy Corporation (Duke Energy) filed a joint application pursuant to section 203 of the Federal Power Act for approval of a change in upstream control and the resulting disposition of jurisdictional facilities resulting from the transaction between Westcoast Energy Inc. (Westcoast) and Duke Energy pursuant to the Amended and Restated Combination Agreement made as of September 20, 2001, by and among Duke Energy, 3058368 Nova Scotia Company, 3946509 Canada Inc., and Westcoast.

Comment Date: January 11, 2002.

2. TXU Tradinghouse Company LP

[Docket No. EG02-49-000]

Take notice that on December 18, 2001, TXU Tradinghouse Company LP (TXU Tradinghouse) tendered for filing with the Federal Energy Regulatory Commission (Commission) an application for determination of exempt wholesale generator status pursuant to part 365 of the Commission's regulations.

On or about January 1, 2002, TXU Tradinghouse will own the facilities described as follows:

Name and location | Eligible facilities | Net megawatts produced
TXU—Tradinghouse, 1868 Lake Felton Parkway Waco, TX 76705 | Tradinghouse No. 1 | 565
| Tradinghouse No. 2 | 818

Comment Date: January 10, 2002 The Commission will limit its consideration of comments to those that concern the adequacy or accuracy of the application.

3. TXU DeCordova Company LP

[Docket No. EG02-50-000]

Take notice that on December 18, 2001, TXU DeCordova Company LP (TXU DeCordova) tendered for filing with the Federal Energy Regulatory Commission (Commission) an application for determination of exempt wholesale generator status pursuant to part 365 of the Commission's Regulations.

Name and location | Eligible facilities | Net megawatts produced
TXU—DeCordova, 4950 Power Plant Court, Granbury, TX 76048 | Decordova No. 1 | 818

Comment Date: January 10, 2002 The Commission will limit its consideration of comments to those that concern the adequacy or accuracy of the application.

4. TXU Mountain Creek Company, LP

[Docket No. EG02-51-000]

Take notice that on December 18, 2001, TXU Mountain Creek Company LP (TXU Mountain Creek) tendered for filing with the Federal Energy Regulatory Commission (Commission) an application for determination of exempt wholesale generator status pursuant to part 365 of the Commission's regulations.

On or about January 1, 2001, TXU Mountain Creek will own the facilities described as follows:

Name and location | Eligible facilities | Net megawatts produced
TXU—Mountain Creek, 2233-A Mt. Creek Parkway, Dallas, TX 75211 | Mountain Creek No. 2 | 33
| Mountain Creek No. 3 | 70
| Mountain Creek No. 6 | 115
| Mountain Creek No. 7 | 125
| Mountain Creek No. 8 | 550

Comment Date: January 10, 2002 The Commission will limit its consideration of comments to those that concern the adequacy or accuracy of the application.

5. TXU Big Brown Company LP

[Docket No. EG02-52-000]

Take notice that on December 18, 2001, TXU Big Brown Company LP (TXU Big Brown) tendered for filing with the Federal Energy Regulatory Commission (Commission) an application for determination of exempt wholesale generator status pursuant to part 365 of the Commission's regulations.

Name and location | Eligible facilities | Net megawatts produced
TXU—Big Brown, P.O. Box 948, Fairfield, TX 75840 | Big Brown Unit No. 1 | 575
| Big Brown Unit No. 2 | 575

Comment Date: January 10, 2002 The Commission will limit its consideration of comments to those that concern the adequacy or accuracy of the application.

6. TXU Handley Company LP

[Docket No. EG02-53-000]

Take notice that on December 18, 2001, TXU Handley Company LP (TXU Handley) tendered for filing with the Federal Energy Regulatory Commission (Commission) an application for determination of exempt wholesale generator status pursuant to Part 365 of the Commission's Regulations.

Name and location | Eligible facilities | Net megawatts produced
TXU—Handley, 6604 E. Rosedale, Ft. Worth, TX 76112-7027 | Handley No. 1 | 45
| Handley No. 2 | 80
| Handley No. 3 | 400
| Handley No. 4 | 58
| Handley No. 5 | 458

Comment Date: January 10, 2002 The Commission will limit its consideration of comments to those that concern the adequacy or accuracy of the application.

7. Duke Power Company, a division of Duke Energy Corporation

[Docket No. ER96-110-007]

Take notice that on December 17, 2001, Duke Power Company, a division of Duke Energy Corporation, submitted an updated market power analysis.

Duke Power states that a copy of the filing has been served on the North Carolina Utilities Commission and the South Carolina Public Service Commission.

Comment Date: January 7, 2002.

8. Portland General Electric Company, Lake Benton Power Partners, LLC, Storm Lake Power Partners I, LLC, Storm Lake Power Partners II, LLC, Enron Energy Services, Inc., Enron Power Marketing, Inc., Clinton Energy Management Services, Inc., Enron Energy Marketing Corp., The New Power Company, Enron Sandhill Limited Partnership, Green Power Partners I, LLC

[Docket No. ER98-1643-004, Docket No. ER97-2904-004, Docket No. ER98-4643-002, Docket No. ER99-1228-002, Docket No. ER98-13-015, Docket No. ER94-24-035, Docket No. ER98-3934-008, Docket No. ER00-2395-001, Docket No. ER00-2535-001, Docket No. ER01-1166-002, and Docket No. ER00-3776-001]

Take notice that on December 14, 2001, Portland General Electric Company (PGE), on behalf of itself and the above-noted PGE affiliates (PGE Affiliates) filed with the Federal Energy Regulatory Commission (Commission) a withdrawal of the notice of change in status with the Commission.

Comment Date: January 4, 2002.

9. PPL EnergyPlus, LLC

[Docket No. ER98-4608-005]

Take notice that on December 17, 2001, PPL EnergyPlus, LLC (PPL EnergyPlus) filed with the Federal Energy Regulatory Commission (Commission) an updated market power analysis pursuant to Ordering Paragraph (J) of the Commission's order in PP&L EnergyPlus Company, 85 FERC ¶ 61,377 (1998).

PPL EnergyPlus has served a copy of this filing on the parties on the Commission's official service list for this docket.

Comment Date: January 7, 2002.

10. Sunlaw Energy Partners I, L.P.

[Docket No. ER99-213-001]

Take notice that on December 14, 2001, Sunlaw Energy Partners I, L.P. (Sunlaw) filed with the Federal Energy Regulatory Commission (Commission) a triennial updated market analysis in compliance with the Commission's December 14, 1998 Order in Docket No. ER99-213-000, which authorized Sunlaw to sell energy and capacity at market-based rates.

Comment Date: January 4, 2002.

11. NYSEG Solutions, Inc.

[Docket No. ER99-220-008]

Take notice that on December 14, 2001, NYSEG Solutions, Inc. (NYSEG Solutions) tendered for filing with the Federal Energy Regulatory Commission (Commission) a letter concerning its triennial market power review pursuant to an order issued by the Commission in Docket No.ER99-220-000 on December 14, 1998 granting NYSEG market-based rate authorization.

Comment Date: January 4, 2002.

12. New York State Electric & Gas Corporation

[Docket No. ER99-221-005]

Take notice that on December 14, 2001, New York State Electric & Gas Corporation (NYSEG) tendered for filing with the Federal Energy Regulatory Commission (Commission) a letter concerning its triennial market power review pursuant to an order issued by the Commission in Docket No.ER98-221-000 on December 14, 1998 granting NYSEG market-based rate authorization.

Comment Date: January 4, 2002.

13. Michigan Electric Transmission Company

[Docket Nos. ER01-2126-005 and ER01-2375-004]

Take notice that on December 14, 2001, Michigan Electric Transmission Company (METC) tendered for filing the following Service Agreements under its FERC Electric Tariff No. 1 in compliance with the November 14, 2001 order issued in these proceedings, Second Substitute Service Agreement Nos. 24 and 25.

The Service Agreements are to have effective dates of April 27 2001, and June 21, 2001, respectively. Copies of the filing were served upon those on the official service lists in these proceedings.

Comment Date: January 4, 2002.

14. New York Independent Systems Operator, Inc.

[Docket Nos. ER97-1523-067, OA97-470-062, ER97-4234-060, and ER01-2230-002]

Take notice that on November 30, 2001 Niagara Mohawk Power Corporation (Niagara Mohawk) tendered for filing with the Federal Energy Regulatory Commission (Commission) additional information in response to Letter Order dated October 31, 2001.

Copies of this response has been served on all parties of record in the above-referenced docket numbers.

Comment Date: January 3, 2002.

15. Calpine Construction Finance Company, L.P.

[Docket No. ER01-2784-002]

Take notice that on December 12, 2001, Calpine Construction Finance Company, L.P. (CCFC) filed a refund report in compliance with the Commission's order in this proceeding dated September 27, 2001.

Comment Date: January 2, 2002.

16. Public Service Company of Oklahoma

[Docket No. ER01-2857-001]

Take notice that on December 14, 2001, Public Service Company of Oklahoma (PSO) tendered for filing an amendment to its August 16, 2001 filing in this docket. The amendment includes a cost support for the O&M charge to be included as part of the executed Restated and Amended Interconnection Agreement dated July 26, 2001 between PSO and Kiowa Power Partners, LLC (Kiowa). This filing is made in compliance with the October 12, 2001 Deficiency Letter from Michael A. Colemen, Director of Rate and Tariffs West. The agreement is pursuant to the AEP Companies' Open Access Transmission Service Tariff (OATT) that has been designated as the Operating Companies of the American Electric Power System FERC Electric Tariff Revised Volume No. 6 effective June 15, 2000.

AEP requested an effective date of October 15, 2001. A copy of the filing was served upon the Oklahoma Corporation Commission.

Comment Date: January 4, 2002.

17. USGen New England, Inc.,

[Docket No. ER98-6-008]

Take notice that on December 14, 2001, the subsidiaries of PG&E National Energy Group, Inc. that have been granted market-based rates by the Commission submitted for filing a triennial market power update pursuant to the orders granting them market-based rates and Section 205 of the Federal Power Act.

Comment Date: January 4, 2002.

18. Reliant Energy Seward, LLC, Reliant Energy Hunterstown, LLC

[Docket No. ER01-3035-001 and ER01-3036-001]

Take notice that on December 17, 2001, Reliant Energy Seward, LLC (RE Seward) and Reliant Energy Hunterstown, LLC (RE Hunterstown) filed with the Federal Energy Regulatory Commission (Commission) an amendment to their application dated September 10, 2001 for grant of certain blanket authorizations, waiver of certain of the Commission's Regulations and issuance of an order accepting each of RE Seward's and RE Hunterstown's FERC Electric Tariff, Original Volume No. 1. RE Seward and RE Hunterstown amended their application to provide the requested supporting information needed to determine whether RE Seward and RE Hunterstown satisfy the standards under which the Commission has granted authority to sell at market-based rates.

Comment Date: January 7, 2002.

19. Hardee Power Partners Limited

[Docket No. ER01-3064-001]

Take notice that on November 30, 2001, Hardee Power Partners Limited tendered for filing its filing in compliance with the Commission's October 19, 2001 letter order issued in the above-referenced proceeding.

Copies of the filing were served upon the Official Service List compiled by the Secretary in this proceeding.

Comment Date: January 2, 2002.

20. Kentucky Power Company

[Docket No. ER01-3120-001]

Take notice that on December 17, 2001, the American Electric Power Service Corporation (AEPSC) tendered for filing an amended unexecuted Interconnection and Operation Agreement between Kentucky Power Company and Foothills Generating, L.L.C. This filing is made in compliance with the Commission's Order Modifying and Accepting Unexecuted Generator Interconnection Agreement issued in this docket on November 20, 2001, 97 FERC ¶ 61,202 (2001). The agreement is pursuant to the AEP Companies' Open Access Transmission Service Tariff (OATT) that has been designated as the Operating Companies of the American Electric Power System FERC Electric Tariff Second Revised Volume No. 6, effective June 15, 2000.

AEP requests an effective date of November 26, 2001. A copy of the filing was served upon the Kentucky Public Service Commission.

Comment Date: January 7, 2002.

21. Appalachian Power Company

[Docket No. ER01-3122-001]

Take notice that on December 17, 2001, the American Electric Power Service Corporation (AEPSC) tendered for filing an amended unexecuted Interconnection and Operation Agreement between Appalachian Power Company and Duke Energy Wythe, LLC. This filing is made in compliance with the Commission's Order Accepting and Rejecting Filing in Part and Establishing Hearing and Settlement Judge Procedures issued in this docket on November 20, 2001, 97 FERC ¶ 61,199 (2001). The agreement is pursuant to the AEP Companies' Open Access Transmission Service Tariff (OATT) that has been designated as the Operating Companies of the American Electric Power System FERC Electric Tariff Second Revised Volume No. 6, effective June 15, 2000.

AEP requests an effective date of November 26, 2001. A copy of the filing was served upon the Virginia State Corporation Commission.

Comment Date: January 7, 2002.

22. Pacific Gas and Electric Company

[Docket No. ER02-4-000]

Take notice that on December 14, 2001, Pacific Gas and Electric Company (PG&E) tendered for filing a Second Request for Deferral of Consideration of its October 1, 2001 filing, Notice of Cancellation of PG&E First Revised Rate Schedule FERC No. 215, Must-Run Service Agreement between PG&E and the California Independent System Operator Corporation for the FMC Synchronous Condenser/ Emergency Gas Turbine, in Docket No. ER02-4-000. PG&E and the ISO are currently discussing PG&E's October 1, 2001 filing. PG&E, therefore, is notifying the Commission that these discussions will not be completed by December 29, 2001.

PG&E requests that the Commission's deferral of consideration be extended for an additional 48 day period, until February 15, 2002. Copies of this filing have been served upon the California Public Utilities Commission and all parties designated on the official service list in this proceeding.

Comment Date: January 4, 2002.

23. Power Resource Group, Inc.

[Docket No. ER02-95-000]

Take notice that on December 17, 2001, Power Resource Group, Inc. (PRG) tendered for filing an amendment to its application for waivers and blanket approvals under various regulations of the Commission and for an order accepting its market-based rate schedule, Rate Schedule FERC No. 1, Original Volume No. 1. PRG proposes that its Rate Schedule FERC No. 1, Original Volume No. 1 become effective October 15, 2001, which is one business day after the date of its original filing in this proceeding.

Comment Date: January 7, 2002.

24. American Electric Power Service Corporation

[Docket No. ER02-544-000]

Take notice that on December 17, 2001, the American Electric Power Service Corporation (AEPSC), tendered for filing Firm and Non-Firm Point-to-Point Transmission (PTP) Service Agreements for Dominion Nuclear Marketing II, Inc. These agreements are pursuant to the SEP Companies' Open Access transmission Service Tariff (OATT) that has been designated as the Operating Companies of the American Electric Power System FERC Electric Tariff Second Revised Volume No. 6.

AEPSC requests waiver of notice to permit the Revised Service Agreement to be made effective on and after December 1, 2001.

A copy of the filing was served upon the Parties and the state utility regulatory commissions of Arkansas, Indiana, Kentucky, Louisiana, Michigan, Ohio, Oklahoma, Tennessee, Texas, Virginia and West Virginia.

Comment Date: January 7, 2002.

25. Pacific Gas and Electric Company

[Docket No. ER02-545-000]

Take notice that on December 17, 2001, Pacific Gas and Electric Company (PG&E) tendered for filing an annual update filing including revisions to its Reliability Must Run Service Agreements (RMR Agreements) with the California Independent System Operator Corporation (ISO) for Helms Power Plant (Helms), PG&E First Revised Rate Schedule FERC No. 207 and San Joaquin Power Plant (San Joaquin), PG&E First Revised Rate Schedule FERC No. 211. This filing revises portions of the Rate Schedules to adjust the values for Contract Service Limits, Owner's Repair Cost Obligation and Prepaid Start-up information. These changes are expressly required and/or authorized under the RMR Agreements.

Copies of PG&E's filing have been served upon the ISO, the California Electricity Oversight Board, and the California Public Utilities Commission.

Comment Date: January 7, 2002.

26. MidAmerican Energy Company

[Docket No. ER02-546-000]

Take notice that on December 17, 2001, MidAmerican Energy Company (MidAmerican), filed with the Federal Energy Regulatory Commission (Commission) a Firm Transmission Service Agreement and a Non-Firm Transmission Service Agreement, between MidAmerican, as transmission provider, and Exelon Generation Company, LLC, as transmission customer. The Agreements are dated October 19, 2001 and have been entered into pursuant to MidAmerican's Open Access Transmission Tariff.

MidAmerican requests an effective date of October 19, 2001 for the Agreements and seeks a waiver of the Commission's notice requirement. MidAmerican has served a copy of the filing on the Iowa Utilities Board, the Illinois Commerce Commission and the South Dakota Public Utilities Commission.

Comment Date: January 7, 2002.

27. Virginia Electric and Power Company

[Docket No. ER02-547-000]

Take notice that on December 13, 2001, Virginia Electric and Power Company (Dominion Virginia Power or the Company) tendered for filing the Service Agreement for Firm Point-to-Point Transmission Service by Virginia Electric and Power Company to Powerex Corp. designated as Service Agreement No. 347 under the Company's FERC Electric Tariff, Second Revised Volume No. 5; and Service Agreement for Non-Firm Point-to-Point Transmission Service by Virginia Electric and Power Company to Powerex Corp. designated as Service Agreement No. 348 under the Company's FERC Electric Tariff, Second Revised Volume No. 5.

The foregoing Service Agreements are tendered for filing under the Open Access Transmission Tariff to Eligible Purchasers effective June 7, 2000. Under the tendered Service Agreements, Dominion Virginia Power will provide point-to-point service to Powerex Corp. under the rates, terms and conditions of the Open Access Transmission Tariff.

Dominion Virginia Power requests an effective date of November 26, 2001, as requested by the Customer. Copies of the filing were served upon Powerex Corp., the Virginia State Corporation Commission, and the North Carolina Utilities Commission.

Comment Date: January 3, 2002.

28. Commonwealth Edison Company

[Docket No. ER02-549-000]

Take notice that on December 12, 2001 Commonwealth Edison Company (ComEd) submitted for filing one Form of Service Agreement for Firm Point-To-Point Transmission Service between ComEd and Exelon Generation Company, LLC (Exelon) and one Form of Service Agreement for Firm Point-To-Point Transmission Service and the associated Network Upgrade Agreement between ComEd and Wisconsin Electric Power Company (WEPCO) under the terms of ComEd's Open Access Transmission Tariff (OATT). Copies of this filing were served on Exelon and WEPCO.

ComEd requests an effective date of January 1, 2002 for the Service Agreement with Exelon and February 1, 2002 for the Service Agreement with WEPCO, and accordingly seeks waiver of the Commission's notice requirements.

Comment Date: January 2, 2002.

29. Tampa Electric Company

[Docket No. ER02-551-000]

Take notice that on December 17, 2001, Tampa Electric Company (TEC) tendered for filing pursuant to section 205 of the Federal Power Act an executed Interconnection and Operating Agreement between TEC and Calpine as a service agreement under TEC's open access transmission tariff.

Comment Date: January 7, 2002.

30. TransEnergie U.S. Ltd.

[Docket No. ER02-552-000]

Take notice that on December 14, 2001, Transnergie U.S. Ltd., on behalf of its to-be-formed project development subsidiary, Harbor Cable Company, LLC (HCC), submitted for filing, pursuant to section 205 of the Federal Power Act, an application requesting that the Commission (1) grant HCC blanket authority to make sales of transmission rights at negotiated rates, and (2) grant certain waivers, in connection with its proposed Harbor Cable transmission interconnector project.

Comment Date: January 4, 2002.

31. Rolling Hills Generating, L.L.C.

[Docket No. ER02-553-000]

Take notice that on December 14, 2001, Rolling Hills Generating, L.L.C. (Rolling Hills) tendered for filing pursuant to rule 205, 18 CFR 385.205, a petition for waivers and blanket approvals under various regulations of the Commission and for an order accepting its FERC Electric Tariff No. 1.

Rolling Hills intends to sell electric power at wholesale at rates, terms, and conditions to be mutually agreed to with the purchasing party. The Rolling Hills tariff provides for the sale of electric energy and capacity at agreed prices.

Comment Date: January 4, 2002.

32. Foothills Generating, L.L.C.

[Docket No. ER02-554-000]

Take notice that on December 14, 2001, Foothills Generating, L.L.C. (Foothills) tendered with the Federal Energy Regulatory Commission (Commission) for filing pursuant to rule 205, 18 CFR 385.205, a petition for waivers and blanket approvals under various regulations of the Commission and for an order accepting its FERC Electric Tariff No. 1.

Foothills intends to sell electric power at wholesale at rates, terms, and conditions to be mutually agreed to with the purchasing party. The Foothills tariff provides for the sale of electric energy and capacity at agreed prices.

Comment Date: January 4, 2002.

33. PECO Energy Company

[Docket No. ER02-555-000]

Take notice that on December 14, 2001, PECO Energy Company (PECO) submitted for filing a second Construction Agreement between PECO and Old Dominion Electric Cooperative (ODEC) related to the Rock Springs Electric Generation Facility, designated as Service Agreement 615 under PJM Interconnection L.L.C.'s (PJM) FERC Electric Tariff Fourth Revised Volume No. 1, to be effective on November 13, 2001. Copies of this filing were served on ODEC and PJM.

Comment Date: January 4, 2002.

34. Reliant Energy Desert Basin, LLC

[Docket No. ER02-557-000]

Take notice that on December 13, 2001, Reliant Energy Desert Basin, LLC (Reliant Energy Desert Basin) tendered for filing a long-term service agreement under its market-based rate tariff.

Comment Date: January 3, 2002.

35. American Transmission Company LLC

[Docket No. ER02-558-000]

Take notice that on December 17, 2001, American Transmission Company LLC (ATCLLC) tendered for filing a Revised Service Agreement No. 79 with technical corrections to the Generation-Transmission Interconnection Agreement for the Point Beach Power Plant between Wisconsin Electric Power Company and ATCLLC. The technical corrections address errors inadvertently overlooked when the Agreement was originally filed.

ATCLLC requests an effective date of December 14, 2001.

Comment Date: January 7, 2002.

36. Michigan Electric Transmission Company

[Docket No. ER02-562-000]

Take notice that on December 13, 2001, Michigan Electric Transmission Company (METC) tendered for filing the following tariff sheets as part of its FERC Electric Tariff, Original Volume No. 1, in order to clarify the reimbursement procedures for certain income tax expenses related to the construction of interconnection facilities under METC's pro forma Generator Interconnection and Operating Agreement, Second Revised Sheet Nos. 140, 167 and 168 and Original Sheet Nos. 140A and 140B.

The sheets are to be effective December 13, 2001. Copies of the filing were served upon the Michigan Public Service Commission.

Comment Date: January 3, 2002.

37. PJM Interconnection, L.L.C.

[Docket No. ER02-563-000]

Take notice that on December 14, 2001, PJM Interconnection, L.L.C. (“PJM”) tendered for filing proposed amendments to section 8.6 of the Appendix to Attachment K of PJM's Open Access Transmission Tariff and to Schedule 1 of the Amended and Restated Operating Agreement of PJM Interconnection, L.L.C. to conform the provisions of PJM's interregional congestion pilot program between PJM and the New York Independent System Operator, Inc. (NYISO) to the provisions filed by NYISO in Docket No. ER02-194-000. The proposed amendments provide that mandatory emergency energy sales shall accompany each generation adjustment made under the interregional congestion pilot program. PJM requests an effective date of December 15, 2001 for the amendments.

Copies of this filing have been served on all PJM Members, the NYISO, the state electric utility regulatory commissions in the PJM and NYISO control areas, and the parties on the official service lists in Docket Numbers ER01-2528 and ER02-194-000.

Comment Date: January 4, 2002.

Standard Paragraph

E. Any person desiring to be heard or to protest such filing should file a motion to intervene or protest with the Federal Energy Regulatory Commission, 888 First Street, NE., Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Acting Secretary.

[FR Doc. 01-32001 Filed 12-27-01; 8:45 am]

BILLING CODE 6717-01-P